DEPARTMENT OF COMMERCE

International Trade Administration

[A-570-866]

Folding Gift Boxes From the People's Republic of China: Final Results of the Second Sunset Review and Continuation of the Antidumping Duty Order

AGENCY: Import Administration, International Trade Administration, Department of Commerce.

SUMMARY: On October 26, 2012, the Department of Commerce (the “Department”) published the preliminary results of the second sunset review of the antidumping duty order on folding gift boxes from the People's Republic of China (“PRC”). We gave interested parties an opportunity to comment on the preliminary results. The Folding Gift Boxes Fair Trade Coalition (“Domestic Parties”) ¹ filed comments in support of the Department's preliminary results and no other party submitted comments. Further, as a result of the determinations by the Department and the International Trade Commission (“ITC”) that revocation of the antidumping duty order would likely lead to a continuation or recurrence of dumping and material injury to an industry in the United States, the Department is publishing a notice of continuation of the antidumping duty order.

¹ The Folding Gift Boxes Fair Trade Coalition is comprised of Harvard Folding Gift Box Company, Inc. and Graphic Packaging International, Inc., both U.S. producers of folding gift boxes.

DATES: Effective Date: March 5, 2013.

FOR FURTHER INFORMATION CONTACT: Demitri Kalogeropoulos, AD/CVD Operations, Office 8, Import Administration, International Trade Administration, Department of Commerce, 14th Street and Constitution Avenue NW., Washington, DC 20230; telephone: (202) 482-2623.

SUPPLEMENTARY INFORMATION:

Background

On October 26, 2012, the Department published the preliminary results ² of the second sunset review on the antidumping duty order ³ on folding gift boxes from the PRC. We invited interested parties to comment on the Preliminary Results. Domestic Parties filed comments in support of the Department's Preliminary Results and no other party submitted comments. Due to the complex issues discussed in the Preliminary Results, the Department has conducted a full sunset review pursuant to section 75l(c)(5)(C) of the Tariff Act of 1930, as amended (“the Act”).

² See Folding Gift Boxes From the People's Republic of China: Preliminary Results of the Second Sunset Review of the Antidumping Duty Order, 77 FR 65361 (October 26, 2012) (“Preliminary Results”).

³ See Notice of Antidumping Duty Order: Certain Folding Gift Boxes From the People's Republic of China, 67 FR 864 (January 8, 2002) (“Order”).

On December 10, 2012, the ITC determined, pursuant to section 751(c) of the Act, that revocation of the Order would likely lead to a continuation or recurrence of material injury to an industry in the United States within a reasonably foreseeable time.⁴

⁴ See Folding Gift Boxes from China: Investigation No. 731-TA-921 (Second Review), USITC Publication 4365 (November 2012).

Scope of the Order

The products covered by the order are certain folding gift boxes. Folding gift boxes are a type of folding or knock-down carton manufactured from paper or paperboard. Folding gift boxes are produced from a variety of recycled and virgin paper or paperboard materials, including, but not limited to, clay-coated paper or paperboard and kraft (bleached or unbleached) paper or paperboard. The scope of the order excludes gift boxes manufactured from paper or paperboard of a thickness of more than 0.8 millimeters, corrugated paperboard, or paper mache. The scope also excludes those gift boxes for which no side of the box, when assembled, is at least nine inches in length.

Folding gift boxes included in the scope are typically decorated with a holiday motif using various processes, including printing, embossing, debossing, and foil stamping, but may also be plain white or printed with a single color. The subject merchandise includes folding gift boxes, with or without handles, whether finished or unfinished, and whether in one-piece or multi-piece configuration. One-piece gift boxes are die-cut or otherwise formed so that the top, bottom, and sides form a single, contiguous unit. Two-piece gift boxes are those with a folded bottom and a folded top as separate pieces. Folding gift boxes are generally packaged in shrink-wrap, cellophane, or other packaging materials, in single or multi-box packs for sale to the retail customer. The scope excludes folding gift boxes that have a retailer's name, logo, trademark or similar company information printed prominently on the box's top exterior (such folding gift boxes are often known as “not-for-resale” gift boxes or “give-away” gift boxes and may be provided by department and specialty stores at no charge to their retail customers). The scope of the order also excludes folding gift boxes where both the outside of the box is a single color and the box is not packaged in shrink-wrap, cellophane, other resin-based packaging films, or paperboard.

Imports of the subject merchandise are classified under Harmonized Tariff Schedules of the United States (“HTSUS”) subheadings 4819.20.0040 and 4819.50.4060. These subheadings also cover products that are outside the scope of the order. Furthermore, although the HTSUS subheadings are provided for convenience and customs purposes, our written description of the scope of the order is dispositive.

Final Determination of Likelihood of Continuation or Recurrence of Dumping

In the Preliminary Results, the Department preliminarily determined that dumping would likely continue or recur if the Order were revoked, because the Department found dumping above de minimis levels in the investigation segment of this proceeding, and we determined that folding gift box imports from the PRC have been increasing in volume during the period of this sunset review. Thus, since issuance of the Order, dumping has continued at rates exceeding de minimis levels, which suggests that dumping is likely to continue if the Order is revoked.

As stated above, Domestic Parties submitted comments in support of our Preliminary Results, and we did not receive comment from any respondent interested party. Therefore, for the reasons explained in the Preliminary Results, we continue to determine dumping would likely continue or recur if the Order were revoked.

Final Determination of Magnitude of the Dumping Margin Likely To Prevail

In the Preliminary Results, the Department noted that section 752(c)(3) of the Act provides that the administering authority shall provide to the ITC the magnitude of the margin of dumping that is likely to prevail if the order were revoked. While normally, the Department will select a margin from the final determination in the investigation because that is the only calculated rate that reflects the behavior of exporters without the discipline of an order or suspension agreement in place, under certain circumstances, the Department may select a more recently calculated rate to report to the ITC. Thus, we determined that the margins likely to prevail were the order revoked would be above de minimis. As stated above, Domestic Parties submitted comments in support of our Preliminary Results, and we did not receive comments from any respondent interested party. Therefore, for the reasons explained in the Preliminary Results, we continue to determine that the margins likely to prevail were the Order revoked would be above de minimis.

Final Results of Sunset Review

Pursuant to section 751(c) of the Act, the Department determines that revocation of the Order on folding gift boxes from the PRC would likely lead to continuation or recurrence of dumping at the rate listed below:

Exporter | Weighted-average margin
All exporters ⁵ | Above de minimis.

⁵ Max Fortune Industrial Ltd. was excluded from the Order. See Order.

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

Continuation of the Order

As a result of the determinations by the Department and the ITC that revocation of the Order on folding gift boxes from the PRC would likely lead to a continuation or recurrence of dumping and material injury to an industry in the United States, pursuant to section 751(d)(2) of the Act, the Department hereby orders the continuation of the antidumping duty order on folding gift boxes from the PRC. U.S. Customs and Border Protection will continue to collect antidumping duty cash deposits at the rates in effect at the time of entry for all imports of subject merchandise. The effective date of the continuation of the Order will be the date of publication in the Federal Register of this notice of final results and continuation. Pursuant to section 751(c)(2) of the Act, the Department intends to initiate the next five-year review of the Order not later than 30 days prior to the fifth anniversary of the effective date of continuation.

We are issuing and publishing these results and notice in accordance with sections 751(c), 752, and 777(i)(1) of the Act.

Dated: February 25, 2013.
Paul Piquado,
Assistant Secretary for Import Administration.

[FR Doc. 2013-05055 Filed 3-4-13; 8:45 am]

BILLING CODE 3510-DS-P